OFFICE OF PERSONNEL MANAGEMENT

Privacy Act of 1994; Computer Matching Programs; Office of Personnel Management/Social Security Administration

AGENCY: Office of Personnel Management (OPM).

ACTION: Publication of notice of computer matching to comply with Public Law 100-503, the Computer Matching and Privacy Act of 1988.

SUMMARY: OPM is re-publishing notice of its computer matching program with the Social Security Administration (SSA) to meet the reporting requirements of Pub. L. 100-503. The purpose of this match is to establish the conditions for disclosure of Social Security benefit information to OPM via direct computer link for the administration of programs by the Retirement Services Programs. OPM is legally required to offset specific benefits by a percentage of benefits payable under Title II of the Social Security Act. The matching will enable OPM to compute benefits at the correct rate and determine eligibility for benefits. This is a re-publication of the June 1, 2005, Federal Register notice announcing this matching program, providing several technical corrections to the notice previously published on the above date.

DATES: The matching program will begin 30 days after the Federal Register notice has been published or 40 days after the date of OPM's submissions of the letters to Congress and OMB, whichever is later. The matching program will continue for 18 months from the beginning date and may be extended an additional 12 months thereafter. The data exchange will begin at a date mutually agreed upon between OPM and SSA after July 2005, unless comments on the match are received that result in cancellation of the program. Subsequent matches will run as frequently as on a daily basis until one of the parties advises the other in writing of its intention to reevaluate, modify and/or terminate the agreement.

ADDRESSES: Send comments to Marc Flaster, Chief, RIS Support Services Group, Office of Personnel Management, Room 1312, 1900 E. Street, NW., Washington, DC 20415.

SUPPLEMENTARY INFORMATION: OPM and SSA intend to conduct a computer matching program. The purpose of this agreement is to establish the conditions under which SSA agrees to the disclosure of benefit information to OPM. The SSA records will be used in a matching program with OPM's records on surviving spouses who may be eligible to receive a Supplementary Annuity, disability retirees, and child survivor annuitants, under the Federal Employees' Retirement System (FERS). The benefits payable to these recipients are offset if paid while also in receipt of SSA benefits.

The SSA components responsible for the disclosure are the Office of Income Security Programs. OPM, as the agency actually using the results of this matching activity in its programs, will publish the notice required by Title 5 United States Code (U.S.C.) 552a(e)(12) in the Federal Register.

Office of Personnel Management.
Linda M. Springer,
Director.

Report of Computer Matching Program Between the Office of Personnel Management and Social Security Administration

A. Participating Agencies

OPM and SSA.

B. Purpose of the Matching Program

Chapter 84 of title 5, United States Code (U.S.C.) requires OPM to offset specific benefits by a percentage of benefits payable under Title II of the Social Security Act. The matching will enable OPM to compute benefits at the correct rate and determine eligibility for benefits.

C. Authority for Conducting the Matching Program

Chapter 84, title 5, United States Code.

D. Categories of Records and Individuals Covered by the Match

The two SSA records systems involved in the match are (1) Master Files of Social Security Number (SSN) Holders and SSN Applications, 60-0058 (SSA/OEEAS) and (2) the Master Beneficiary Record, 60-0090 (SSA-ORSIS), The OPM records consist of annuity data from its system of records entitled OPM/Central 1—Civil Service Retirement and Insurance Records, last published on October 8, 1999, at 64 FR 54930, and as amended at 65 FR 25775, May 3, 2000.

E. Description of the Match and Records

OPM will provide SSA an extract from the Annuity Master File and from pending claims snapshot records via the File Transfer Management System (FTMS). The extracted file will contain identifying information concerning the disability annuitant, child survivor, or surviving spouse who may be eligible for an annuity under FERS. Each record will be matched to SSA's records and requested information transmitted back to OPM.

F. Privacy Safeguards and Security

Both SSA and OPM will safeguard information provided by the reciprocal agency as follows: Access to the records matched and to any records created by the match will be restricted to only those authorized employees and officials who need the records to perform their official duties in connection with the uses of the information authorized in the agreement. Records matched or created by this exchange will be stored in an area that is physically safe. Records used during this exchange will be processed under the immediate supervision and control of authorized personnel in a manner which will protect confidentiality of the records. Either OPM or SSA may make onsite inspection or make other provisions to ensure that adequate safeguards are being maintained by the other agency.

G. Disposal of Records

Records causing closeout or suspend actions will be annotated and returned to OPM for record keeping purposes. All records returned to OPM are considered “response” records and any not used in the update process must be purged by SSA immediately after all processing is completed.

[FR Doc. 05-13827 Filed 7-13-05; 8:45 am]

BILLING CODE 6325-38-P